DEPARTMENT OF DEFENSE

GENERAL SERVICES ADMINISTRATION

NATIONAL AERONAUTICS AND SPACE ADMINISTRATION

[OMB Control No. 9000-0139]

Federal Acquisition Regulation; Information Collection; Federal Acquisition and Community Right-To-Know

AGENCIES: Department of Defense (DOD), General Services Administration (GSA), and National Aeronautics and Space Administration (NASA).

ACTION: Notice of request for an extension to an existing OMB clearance (9000-0139).

SUMMARY: Under the provisions of the Paperwork Reduction Act of 1995 (44 U.S.C. Chapter 35), the Federal Acquisition Regulation (FAR) Secretariat will be submitting to the Office of Management and Budget (OMB) a request to review and approve an extension of a currently approved information collection requirement concerning the reporting requirements of the Emergency Planning and Community Right-To-Know Act of 1986 (42 U.S.C. 11001-11050) and the Pollution Prevention Act of 1990 (42 U.S.C. 13101-13109). The clearance currently expires on December 31, 2005.

DATES: Submit comments on or before November 14, 2005.

ADDRESSES: Submit comments regarding this burden estimate or any other aspect of the collection of information, including suggestions for reducing this burden to the General Services Administration, FAR Secretariat (VIR), 1800 F Street, NW, Room 4035, Washington, DC 20405.

FOR FURTHER INFORMATION CONTACT Ms. Kimberly Marshall, Contract Policy Division, GSA (202) 219-0986.

SUPPLEMENTARY INFORMATION:

A. Purpose

FAR Subpart 23.9 and its associate solicitation provision and contract clause implement the requirements of E.O. 12969 of August 8, 1995, published in the Federal Register at 60 FR 40989, August 10, 1995, “Federal Acquisition and Community Right-to-Know,” and the Environmental Protection Agency's “Guidance Implementing E.O. 12969; Federal Acquisition Community Right-to-Know; Toxic Chemical Release Reporting” published in the Federal Register at 60 FR 50738, September 29, 1995. The FAR coverage requires offerors in competitive acquisitions over $100,000 (including options) to certify that they will comply with applicable toxic chemical release reporting requirements of the Emergency Planning and Community Right-to-Know Act of 1986 (42 U.S.C 11001-11050) and the Pollution Prevention Act of 1990 (42 U.S.C 13101-13109).

B. Annual Reporting Burden

Respondents: 167,487.

Responses Per Respondent: 1.

Annual Responses: 167,487.

Hours Per Response: 0.50.

Total Burden Hours: 83,744.

Obtaining Copies of Proposals: Requesters may obtain a copy of the information collection documents from the General Services Administration, FAR Secretariat (VIR), Room 4035, Washington, DC 20405, telephone (202) 501-4755. Please cite OMB Control No. 9000-0139, Federal Acquisition and Community Right-to-Know, in all correspondence.

Dated: September 7, 2005.
Julia B. Wise,
Director, Contract Policy Division.

[FR Doc. 05-18068 Filed 9-12-05; 8:45 am]

BILLING CODE 6820-EP-S